FEDERAL COMMUNICATIONS COMMISSION

47 CFR Part 15

[ET Docket No. 03-201; FCC 07-56]

Unlicensed Devices and Equipment Approval

AGENCY: Federal Communications Commission.

ACTION: Final rule.

SUMMARY: This document amends the Commission's rules to provide for more efficient equipment authorization of both existing modular transmitter devices and emerging partitioned (or “split”) modular transmitter devices. These rule changes will benefit manufacturers by allowing greater flexibility in certifying equipment and providing relief from the need to obtain a new equipment authorization each time the same transmitter is installed in a different final product. The rule changes will also enable manufacturers to develop more flexible and more advanced unlicensed transmitter technologies. The Commission further finds that modular transmitter devices authorized in accordance with the revised equipment authorization procedures will not pose any increased risk of interference to other radio operations.

DATES: Effective June 22, 2007, except for § 15.212, which contains information collection requirements that have not been approved by the Office of Management and Budget. The Federal Communications Commission will publish a document in the Federal Register announcing the effective date of this section.

FOR FURTHER INFORMATION CONTACT: Hugh Van Tuyl, Office of Engineering and Technology, (202) 418-7506, e-mail Hugh.VanTuyl@fcc.gov.

SUPPLEMENTARY INFORMATION: This is a summary of the Commission's Second Report and Order, ET Docket No. 03-201, FCC 07-56, adopted April 20, 2007, and released April 25, 2007. The full text of this document is available on the Commission's Internet site at http://www.fcc.gov. It is also available for inspection and copying during regular business hours in the FCC Reference Center (Room CY-A257), 445 12th Street., SW., Washington, DC 20554. The full text of this document also may be purchased from the Commission's duplication contractor, Best Copy and Printing Inc., Portals II, 445 12th St., SW., Room CY-B402, Washington, DC 20554; telephone (202) 488-5300; fax (202) 488-5563; e-mail FCC@BCPIWEB.COM.

Summary of the Report and Order

1. In the Second Report and Order the Commission codified the Public Notice, DA 00-1407, June 26, 2000, requirements for approving modular transmitters, with certain modifications. It also adopted requirements for the approval of split modular transmitters, including a requirement that only parts of a split module that have been approved in a single application for equipment authorization may operate together. Further, it allows manufacturers the flexibility to demonstrate alternative methods in the application for equipment authorization to ensure that a modular transmitter will meet all the applicable part 15 requirements under the operating conditions in which it will be used. The Commission finds that the increased flexibility adopted will facilitate the approval process for modular transmitters and provide relief from the need to obtain a new equipment authorization each time the same transmitter is installed in a different final product, and will promote an increase in the development of part 15 devices without increasing the potential for interference to authorized radio services.

Single Unit Modular Transmitters

2. The Commission codified the proposed requirements for approving single modular transmitters into the rules. This action will ensure that all equipment manufacturers are provided with adequate notice of the Commission's requirements for obtaining modular transmitter approvals. The Commission adopted a definition for a modular transmitter. Specifically, a modular transmitter will be defined as a completely self-contained radio-frequency transmitter device that is typically incorporated into another product, host or device. However, the Commission will not require “module-like devices” that contain part 15 transmitters to be approved as modular transmitters. Consistent with current Commission policy, it will continue to permit such devices to be approved as stand-alone transmitters under the present authorization procedures, although manufacturers may obtain approval for them as modules if they desire.

3. The Commission recognizes that there may be circumstances where there are alternative means that will enable a modular transmitter to meet all applicable part 15 requirements under the operating conditions in which the transmitter will be used. Therefore, the Commission adopted a rule that states that modular transmitters do not have to comply with all of the approval requirements if the manufacturer can demonstrate by alternative means in the application for equipment authorization that the equipment complies with the part 15 rules. Specifically, the Commission will permit manufacturers flexibility with respect to the requirements such as module shielding, buffered modulation/data inputs and power supply regulation, because compliance with these requirements may not be necessary in specific module installations. Consistent with the Public Notice, the Commission may grant a “Limited Modular Approval” in instances where the equipment does not meet all eight criteria for modular transmitters, but the grantee of equipment authorization can demonstrate that it will retain control over the final installation of the device such that compliance of the end product is assured. In such cases, the grantee must state how control of the end product into which the module will be installed will be maintained such that full compliance of the end product is always ensured. A limited modular approval is subject to conditions such as the device(s) into which the module can be installed, the antenna separation distance from persons or the locations where it may be used (e.g. outdoor only).

4. To provide additional flexibility to manufacturers and to parties incorporating modular transmitters into other devices, the Commission will permit electronic labeling of modular transmitters in the same manner as it allows for software defined radios. The FCC identification number may be shown on an electronic display on the module itself if the module contains a display that is visible to the user, or more typically, it may be displayed on the device into which the module is installed, such as a laptop computer or PDA. The information must be readily accessible, and the user manual must describe how to access the electronic display. In addition to the electronic display, the Commission requires a simple label on the product indicating when a module is installed inside a host device to facilitate identification of equipment that contains modular transmitters. This approach will simplify the labeling procedure for parties that incorporate modules into other devices because they will not need to affix a different label on the outside of a device for each type of modular transmitter that may be installed inside.

5. The Commission declines to make changes to the antenna connector requirements for modular transmitters. The Commission previously addressed this issue in the Report and Order, 69 FR 54072, September 7, 2004, in this proceeding. It noted that the changes adopted in the Report and Order that allow intentional radiators to be authorized with multiple antenna types similarly apply to modular transmitters.

6. The Commission declined to modify the rules to state that the host device manufacturer is responsible for meeting the requirements specified in the modular transmitter authorization. It is ultimately the responsibility of the grantee of equipment authorization to comply with the terms of the equipment authorization. The Commission notes that in the case of equipment requiring special accessories, the rules state that it is the responsibility of the user to use the needed special accessories that the grantee is required to supply with the equipment. It also notes that some parties are assembling devices that contain multiple approved modules that may interact with each other and may cause the host device to operate out of compliance with the Commission's rules. In this case, the assembler is responsible for any interactions that cause the device to operate out of compliance with the Commission's rules, while the grantee of the equipment authorization for each module remains responsible for the compliance of the module with the equipment authorization. If an assembler makes any changes to an approved module, it becomes the party responsible for compliance of that module and must obtain a new equipment authorization.

Split Modular Transmitters

7. A new class of split modular transmitters is now under development. These transmitters consist of two basic components: the radio front end and the firmware on which the software that controls the radio operation resides. The separation of modular devices into these components will provide manufacturers with flexibility to design a larger variety of modular systems by mixing and matching individual components.

8. The Public Notice on modular transmitter approvals envisioned that a transmitter module would be a single component device, rather than split into two separate sections. Certain requirements in the Public Notice may not be appropriate or may be unnecessarily restrictive for split modules. Therefore, in the Notice of Proposed Rule Making (NPRM), the Commission proposed to modify the requirements for shielding, control information, and test procedures in the Public Notice to accommodate the special case of new split modules in which the antenna, radio front end, and firmware are independent of one another.

9. The Commission adopted modified and additional approval requirements for split modules. These rules will provide manufacturers relief from the need to obtain a new equipment authorization each time the same split modular transmitter is installed in a different device. Reducing the authorization burden for split modular transmitters will encourage and enable manufacturers to develop more flexible and more advanced unlicensed transmitter technologies. The Commission also finds that, with appropriate safeguards, split modules may be authorized while continuing to ensure that final products comply with the Commission's technical requirements.

10. The Commission will use the term “transmitter control element” in place of the proposed term “firmware” for split modular transmitters. The term firmware is generally used to describe computer instructions that are stored in a read-only memory. While that term may be appropriate for describing how transmitter functions are carried out in some split module implementations, it may not be appropriate in all cases. Thus, the Commission is using the more generic term “transmitter control element”.

11. For a split modular transmitter, there are three pieces that must be tested together. The first is the RF front end, which consists of the power amplifier, antenna, and possibly the circuitry that produces the modulation. The second piece is the transmitter control element, which may be on its own chip or circuit board, or which may consist of components incorporated into another device. The transmitter control element may produce the modulation rather than the RF front end. The third piece is the host device, such as a notebook computer or personal digital assistant, which will be used to link the first two pieces of the split module together. The Commission will use some judgment at the time of equipment authorization as to whether the host device with which a modular transmitter is tested is representative of the intended use(s) of that modular transmitter.

12. The Commission adopted the proposed requirements that only the radio front end of a split module must be shielded. It does not believe that it is necessary to shield the transmitter control element because it is unlikely any stray RF energy to this circuitry would affect the emissions from the overall device. The adopted rules will allow the physical crystal and tuning capacitors to be located external to the shielded radio element. This approach recognizes that it would greatly complicate equipment design to shield the crystal and tuning capacitor and does not appear warranted by the negligible risk of any impact on the transmitter output. The Commission also adopted a requirement that the interface between sections of the split modular system must be digital with a minimum signaling amplitude of 150 millivolts peak-to-peak. These requirements will help ensure that the interface between sections of a split module is immune to stray signals that could cause the module to operate out of compliance with the part 15 rules. While these requirements should be appropriate in most cases, the Commission recognizes the concerns of parties who request additional flexibility in meeting these requirements. Therefore, consistent with its actions for single modules, the Commission will permit manufacturers to demonstrate alternatives to these requirements that will ensure that the split modular transmitter complies with the part 15 rules.

13. The Commission adopted a rule stating that control information and other data may be exchanged between the radio front end and transmitter control elements. The purpose of this rule is merely to clarify that in a split module, data may be sent not to just the module input as in a single module, but also between sections of the module.

14. The Commission declines to define a reference platform or specific cable lengths for testing split modules as proposed in the NPRM. Because split modules are a new technology, the Commission concludes that it would be premature to specify detailed testing procedures that may not be applicable to all implementations and could inadvertently hinder development of this technology. Rather, it will require manufacturers to comply with the basic objective of demonstrating, through testing, that their split module equipment will comply with the applicable part 15 requirements (e.g., frequency, power, spurious emissions limits, and other rules). The Commission will provide manufacturers with the flexibility to perform testing on a platform that is representative of actual use, such as a laptop or PDA, but may require a manufacturer to perform testing on additional platforms if necessary to demonstrate that the equipment will comply under the conditions in which it will be used. The sections of a split module must be tested together as a system and will be authorized as a system with a single FCC identification number.

15. The Commission declines to require a standard physical or logical interface between sections of a split module or to require the use of an industry standard. It now finds that such an action could hinder development of this nascent technology. Manufacturers are free to develop standard interfaces and use industry standards in designing split modules at their discretion. Parties may also mix and match radio front ends and transmitter control elements made by different manufacturers in split modules, but to ensure the compliance of these components as a module they must be tested and certified as a system on a platform representative of actual use. Each combination of radio front end and transmitter control elements must have its own FCC identification number that will indicate which party is responsible for compliance of the system. The Commission will not require a permanently affixed label on the transmitter control elements of a split module when electronic labeling is used, because the radio front end or transmitter control element may be integrated into another device, making physical labeling impractical. However, if electronic labeling is not used, the Commission will require a permanently affixed label to be located either on the radio front end, transmitter control elements, or the host device.

16. Because split modules are tested for compliance and authorized as a system, the Commission finds that it is necessary to adopt requirements to ensure that only sections of a split module system that have been approved together may be used together in a device. Therefore, it adopted a general security requirement for split modules that is similar to the security requirement for software defined radios that ensures that only hardware and software that has been approved together may operate in a device. Specifically, the Commission requires that manufacturers take steps to ensure that only transmitter control elements and radio front end components that have been approved together are capable of operating together. It also requires that the split module not operate unless it has verified that the installed transmitter control elements and radio front end have been authorized together. The Commission will permit manufacturers to use means including, but not limited to, coding in hardware and electronic signatures in software to meet these requirements, and will require them to describe the methods for ensuring that components operate only when connected with other components included under the same equipment authorization in their application for equipment authorization.

17. The Commission will not permit Telecommunication Certification Bodies (TCBs) to certify split modules at this time. Split modules are a new technology, and TCBs will not be permitted to certify them until the Commission has more experience with them and can properly advise TCBs on how to apply the applicable rules. The Commission's Laboratory maintains a list of types of devices that TCBs are excluded from certifying and will place split modules on this list until the Laboratory determines that TCBs are capable of certifying them.

Ordering Clauses

18. Part 15 of the Commission's rules is amended as specified in Appendix A, effective 30 days after publication in the Federal Register. The Second Report and Order contains information collection requirements subject to the Paperwork Reduction Act of 1995 (PRA), Pub. L. 104-13, that are not effective until approved by the Office of Management and Budget. The Federal Communications Commission will publish a document in the Federal Register announcing the effective date of the rules. This action is taken pursuant to the authority contained in sections 1, 4(i), 303(f), and 303(r) of the Communications Act of 1934, as amended, 47 U.S.C. 151, 154(i), 303(f), and 303(r).

19. The Commission's Consumer and Governmental Affairs Bureau, Reference Information Center, shall send a copy of the Second Report and Order, including the Final Regulatory Flexibility Analysis, to the Government Accountability Office pursuant to the Congressional Review Act, see 5 U.S.C. 801(a)(1)(A).

Supplemental Final Regulatory Flexibility Analysis

20. As required by the Regulatory Flexibility Act (RFA),¹ an Initial Regulatory Flexibility Analysis (IRFA) was incorporated in the Notice of Proposed Rulemaking (NPRM) in this docket, ET Docket 03-201. The Commission sought written public comment on the proposals in the NPRM, including comment on the IRFA. This present Supplemental Final Regulatory Flexibility Analysis (FRFA) conforms to the RFA.²

¹ See 5 U.S.C. 603. The RFA, see 5 U.S.C. 601-612, has been amended by the Small Business Regulatory Enforcement Fairness Act of 1996 (SBREFA), Pub. L. 104-121, Title II, 110 Stat. 857 (1996).

² See 5 U.S.C. 603, Title II, 110 Stat 857 (1996).

A. Need for, and Objectives of, the Second Report and Order

21. In recent years, manufacturers have developed part 15 transmitter modules (or “single” modules) that can be incorporated into many different devices. A module generally consists of a completely self-contained radio-frequency transmitter missing only an input signal source and a power source to make it functional. Once a module is authorized by the Commission under its certification procedure, it may be incorporated into a number of host devices such as personal computers (PCs) or personal digital assistants (PDAs), which have been separately authorized. The completed product generally is not subject to requirements for further certification by the Commission. Therefore, modular transmitters save manufacturers the time and any related expenses that would be incurred if a new equipment authorization were needed for the same transmitter when it is installed in a new device.

22. On June 26, 2000, the Commission released a Public Notice detailing eight criteria that must be met in order for the Commission to grant certification to a part 15 transmitter as a module. Specifically, the module must: (1) Have its own radio-frequency shielding, (2) have buffered modulation/data inputs to ensure that the device will comply with the part 15 requirements with any type of input signal, (3) contain power supply regulation, (4) comply with the part 15 antenna requirements, (5) be tested in a stand-alone configuration, (6) be labeled with its own FCC ID, (7) comply with any specific rules applicable to the transmitter, and (8) comply with RF safety requirements. The Public Notice was released in response to manufacturers' requests to the FCC Laboratory for information about the conditions under which part 15 modular transmitter approvals may be granted. In the NPRM in this proceeding, the Commission proposed to codify the criteria from the Public Notice for approval of singular modular transmitters. In addition, the Commission proposed additional criteria that must be met for approval of split modular transmitters.

23. The Second Report and Order codifies the eight Public Notice requirements for approval of single modular transmitters. It also adopts specific requirements for the approval of split modular devices. Specifically, in a split modular device: (1) Only the radio-frequency section of the module must be shielded, (2) the two sections of the module may exchange data and control information, (3) the sections of a split module must be tested together in a representative device, and (4) split modules must contain measures such a security codes to ensure that only sections of a module that have been approved together will function together in a host device. These rule changes will benefit manufacturers by allowing greater flexibility in certifying equipment and providing relief from the need to obtain a new equipment authorization each time the same transmitter is installed in a different device. The rule changes will also enable manufactures to develop more flexible and more advanced unlicensed transmitter technologies.

B. Summary of Significant Issues Raised by Public Comments in Response to the IRFA

24. No comments were filed in response to the IRFA.

C. Description and Estimate of the Number of Small Entities to Which the Rules Will Apply

25. The RFA directs agencies to provide a description of, and, where feasible, an estimate of the number of small entities that may be affected by the proposed rules, if adopted.³ The RFA defines the term “small entity” as having the same meaning as the terms “small business,” “small organization,” and “small business concern” under section 3 of the Small Business Act.⁴ Under the Small Business Act, a “small business concern” is one that: (1) Is independently owned and operated; (2) is not dominant in its field of operations; and (3) meets additional criteria established by the Small Business Administration (SBA).⁵

³ See U.S.C. 603(b)(3).

⁴ Id. 601(3).

⁵ Id. 632.

26. The rules adopted in this Second Report and Order pertains to manufacturers of unlicensed communications devices. The appropriate small business size standard is that which the SBA has established for radio and television broadcasting and wireless communications equipment manufacturing. This category encompasses entities that primarily manufacture radio, television, and wireless communications equipment.⁶ Under this standard, firms are considered small if they have 750 or fewer employees.⁷ Census Bureau data for 1997 indicate that, for that year, there were a total of 1,215 establishments ⁸ in this category.⁹ Of those, there were 1,150 that had employment under 500, and an additional 37 that had employment of 500 to 999. The percentage of wireless equipment manufacturers in this category is approximately 61.35%, so the Commission estimates that the number of wireless equipment manufacturers with employment under 500 was actually closer to 706, with an additional 23 establishments having employment of between 500 and 999. Given the above, the Commission estimates that the great majority of wireless communications equipment manufacturers are small businesses.

⁶ NAICS code 334220.

⁷ Id.

⁸ The number of “establishments” is a less helpful indicator of small business prevalence in this context than would be the number of “firms” or “companies,” because the latter take into account the concept of common ownership or control. Any single physical location for an entity is an establishment, even though that location may be owned by a different establishment. Thus, the numbers given may reflect inflated numbers of businesses in this category, including the numbers of small businesses. In this category, the Census breaks-out data for firms or companies only to give the total number of such entities for 1997, which was 1,089.

⁹ U.S. Census Bureau, 1997 Economic Census, Industry Series: Manufacturing, “Industry Statistics by Employment Size,” Table 4, NAICS code 334220.

D. Description of Projected Reporting, Recordkeeping, and Other Compliance Requirements

27. Part 15 modular transmitters are already required to be certified before they can be legally imported into or marketed within the United States. The rule changes adopted in this proceeding will not alter any of the current reporting or recordkeeping requirements. Telecommunication Certification Bodies (TCBs) will not be permitted to certify split modular transmitters until the Commission has more experience with them and can properly advise TCBs on how to apply the applicable rules.

E. Steps Taken To Minimize Significant Economic Impact on Small Entities, and Significant Alternatives Considered

28. The RFA requires an agency to describe any significant alternatives that it has considered in reaching its approach, which may include the following four alternatives: (1) The establishment of differing compliance or reporting requirements or timetables that take into account the resources available to small entities; (2) the clarification, consolidation, or simplification of compliance and reporting requirements under the rule for such small entities; (3) the use of performance rather than design standards; and (4) an exemption from coverage of the rule, or any part thereof, for such small entities.

29. Modular approvals save manufacturers, both large and small, the burden of having to test a transmitter multiple times for incorporation into multiple host devices. However, we recognize that in some instances, particularly with respect to small manufacturers, the drawback to modular approvals is that the certification of a module is somewhat more burdensome because the manufacturer must show compliance with the eight requirements from the June 2000 public notice that the current item incorporates into the rules. This could mean that a manufacturer has to incorporate shielding, modulation buffering or power supply regulation to make a device eligible for a modular approval, or that it has to be tested in different configurations than non-modular transmitters.

30. Because smaller manufacturers may find that these requirements impose an economically significant burden, we have provided for two alternatives to reduce this burden.

31. First, the rules do not require that a manufacturer approve a transmitter as a module. If a transmitter is only intended to be installed in a small number of different devices, a manufacturer may find it is more efficient, either cost-wise or time-wise, to simply obtain a separate certification for each device.

32. Second, the rules permit “limited modular approvals” for transmitters that do not comply with all eight requirements for modular certification if the manufacturer can demonstrate by alternative means in the application for equipment authorization that the equipment will comply with the part 15 rules. Specifically, manufacturers have flexibility with respect to requirements such as module shielding, buffered modulation/data inputs and power supply regulation, because compliance with these requirements may not be necessary in specific module installations. The manufacturer must demonstrate that it will retain control over the final installation of the device such that compliance of the end product is assured. A limited modular approval is subject to conditions such as the device(s) into which the module can be installed, a requirement for professional installation, the antenna separation distance from persons or the locations where it may be used (e.g., outdoor only).

F. Report to Congress

33. The Commission will send a copy of the Second Report and Order, including this FRFA, in a report to be sent to Congress pursuant to the Congressional Review Act.¹⁰ In addition, the Commission will send a copy of the second Report and Order, including the FRFA, to Congress and the Government Accountability Office.

¹⁰ See 5 U.S.C. 801(a)(1)(A).

List of Subjects in 47 CFR Part 15

Communications equipment.

Federal Communications Commission.
Marlene H. Dortch,
Secretary.

Final Rules

For the reasons discussed in the preamble, the Federal Communications Commission amends part 15 of Title 47 of the CFR to read as follows:

PART 15—RADIO FREQUENCY DEVICES

1. The authority citation for part 15 continues to read as follows:

Authority: 47 U.S.C. 154, 302a, 303, 304, 307, 336, and 544a

2. Section 15.212 is added to read as follows:

§ 15.212 Modular transmitters.

(a) Single modular transmitters consist of a completely self-contained radiofrequency transmitter device that is typically incorporated into another product, host or device. Split modular transmitters consist of two components: a radio front end with antenna (or radio devices) and a transmitter control element (or specific hardware on which the software that controls the radio operation resides). All single or split modular transmitters are approved with an antenna. All of the following requirements apply, except as provided in paragraph (b) of this section.

(1) Single modular transmitters must meet the following requirements to obtain a modular transmitter approval.

(i) The radio elements of the modular transmitter must have their own shielding. The physical crystal and tuning capacitors may be located external to the shielded radio elements.

(ii) The modular transmitter must have buffered modulation/data inputs (if such inputs are provided) to ensure that the module will comply with part 15 requirements under conditions of excessive data rates or over-modulation.

(iii) The modular transmitter must have its own power supply regulation.

(iv) The modular transmitter must comply with the antenna and transmission system requirements of §§ 15.203, 15.204(b) and 15.204(c). The antenna must either be permanently attached or employ a “unique” antenna coupler (at all connections between the module and the antenna, including the cable). The “professional installation” provision of § 15.203 is not applicable to modules but can apply to limited modular approvals under paragraph (b) of this section.

(v) The modular transmitter must be tested in a stand-alone configuration, i.e., the module must not be inside another device during testing for compliance with part 15 requirements. Unless the transmitter module will be battery powered, it must comply with the AC line conducted requirements found in § 15.207. AC or DC power lines and data input/output lines connected to the module must not contain ferrites, unless they will be marketed with the module (see § 15.27(a)). The length of these lines shall be the length typical of actual use or, if that length is unknown, at least 10 centimeters to insure that there is no coupling between the case of the module and supporting equipment. Any accessories, peripherals, or support equipment connected to the module during testing shall be unmodified and commercially available (see § 15.31(i)).

(vi) The modular transmitter must be equipped with either a permanently affixed label or must be capable of electronically displaying its FCC identification number.

(A) If using a permanently affixed label, the modular transmitter must be labeled with its own FCC identification number, and, if the FCC identification number is not visible when the module is installed inside another device, then the outside of the device into which the module is installed must also display a label referring to the enclosed module. This exterior label can use wording such as the following: “Contains Transmitter Module FCC ID: XYZMODEL1” or “Contains FCC ID: XYZMODEL1.” Any similar wording that expresses the same meaning may be used. The Grantee may either provide such a label, an example of which must be included in the application for equipment authorization, or, must provide adequate instructions along with the module which explain this requirement. In the latter case, a copy of these instructions must be included in the application for equipment authorization.

(B) If the modular transmitter uses an electronic display of the FCC identification number, the information must be readily accessible and visible on the modular transmitter or on the device in which it is installed. If the module is installed inside another device, then the outside of the device into which the module is installed must display a label referring to the enclosed module. This exterior label can use wording such as the following: “Contains FCC certified transmitter module(s).” Any similar wording that expresses the same meaning may be used. The user manual must include instructions on how to access the electronic display. A copy of these instructions must be included in the application for equipment authorization.

(vii) The modular transmitter must comply with any specific rules or operating requirements that ordinarily apply to a complete transmitter and the manufacturer must provide adequate instructions along with the module to explain any such requirements. A copy of these instructions must be included in the application for equipment authorization.

(viii) The modular transmitter must comply with any applicable RF exposure requirements in its final configuration.

(2) Split modular transmitters must meet the requirements in paragraph (a)(1) of this section, excluding paragraphs (a)(1)(i) and (a)(1)(v), and the following additional requirements to obtain a modular transmitter approval.

(i) Only the radio front end must be shielded. The physical crystal and tuning capacitors may be located external to the shielded radio elements. The interface between the split sections of the modular system must be digital with a minimum signaling amplitude of 150 mV peak-to-peak.

(ii) Control information and other data may be exchanged between the transmitter control elements and radio front end.

(iii) The sections of a split modular transmitter must be tested installed in a host device(s) similar to that which is representative of the platform(s) intended for use.

(iv) Manufacturers must ensure that only transmitter control elements and radio front end components that have been approved together are capable of operating together. The transmitter module must not operate unless it has verified that the installed transmitter control elements and radio front end have been authorized together. Manufacturers may use means including, but not limited to, coding in hardware and electronic signatures in software to meet these requirements, and must describe the methods in their application for equipment authorization.

(b) A limited modular approval may be granted for single or split modular transmitters that do not comply with all of the above requirements, e.g., shielding, minimum signaling amplitude, buffered modulation/data inputs, or power supply regulation, if the manufacturer can demonstrate by alternative means in the application for equipment authorization that the modular transmitter meets all the applicable part 15 requirements under the operating conditions in which the transmitter will be used. Limited modular approval also may be granted in those instances where compliance with RF exposure rules is demonstrated only for particular product configurations. The applicant for certification must state how control of the end product into which the module will be installed will be maintained such that full compliance of the end product is always ensured.

[FR Doc. E7-9942 Filed 5-22-07; 8:45 am]

BILLING CODE 6712-01-P